DEPARTMENT OF ENERGY

Federal Energy Regulatory Commission

[Docket No. RP00-230-000]

El Paso Natural Gas Company; Notice of Revenue Crediting Report

April 4, 2000.

Take notice that on March 31, 2000, El Paso Natural Gas Company (El Paso) tendered for filing its revenue crediting report for the calendar year 1999.

El Paso states that the report details El Paso's crediting of risk sharing revenues for the calendar year 1999 in accordance with Section 25.3 of the General Terms and Conditions of its Volume No. 1-A Tariff.

Any person desiring to be heard or to protest said filing should file a motion to intervene or a protest with the Federal Energy Regulatory Commission, 888 First Street, N.E., Washington, D.C. 20426, in accordance with Sections 385.214 or 385.211 of the Commission's Rules and Regulations. All such motions or protests must be filed on or before April 11, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-8748 Filed 4-7-00; 8:45 am]

BILLING CODE 6717-01-M